DEPARTMENT OF ENERGY

Federal Energy Regulatory Commission

[Docket No. EL17-94-000]

New York Power Authority v. PJM Interconnection, L.L.C. and PJM Transmission Owners in Their Collective Capacity; Notice of Complaint

Take notice that on September 28, 2017, pursuant to sections 206, 306 ¹ and 309 of the Federal Power Act, and Rule 206 of the Federal Energy Regulatory Commission's (Commission) Rules of Practice and Procedure, 18 CFR 385.206 (2017). New York Power Authority (NYPA) (Complainant) filed a formal complaint against PJM Interconnection, L.L.C. (PJM) and the PJM Transmission Owners in their Collective Capacity, (jointly Respondents) alleging that, PJM's continued invoicing of NYPA for monthly Regional Transmission Expansion Plan charges associated with the Hudson Transmission Project's 320 MW of Firm Transmission Withdrawal Rights following Hudson Transmission Partners, LLC's surrender of those rights constitutes a violation of the PJM Open Access Transmission Tariff and is unjust, unreasonable, and unduly discriminatory and preferential, all as more fully explained in the complaint.

¹ 16 U.S.C. 824e, 825e and 825h (2012).

NYPA certifies that copies of the complaint were served on the contacts for PJM and the PJM Transmission Owners in their Collective Capacity.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 18, 2017.

Dated: September 29, 2017.
Nathaniel J. Davis, Sr.,
Deputy Secretary.

[FR Doc. 2017-21872 Filed 10-10-17; 8:45 am]

BILLING CODE 6717-01-P